DEPARTMENT OF TRANSPORTATION

Office of the Secretary

Notice of Applications for Certificates of Public Convenience and Necessity and Foreign Air Carrier Permits Filed Under Subpart B (Formerly Subpart Q) During the Week Ending November 24, 2006

The following Applications for Certificates of Public Convenience and Necessity and Foreign Air Carrier Permits were filed under Subpart B (formerly Subpart Q) of the Department of Transportation's Procedural Regulations (See 14 CFR 301.201 et. seq.).

The due date for Answers, Conforming Applications, or Motions to Modify Scope are set forth below for each application. Following the Answer period DOT may process the application by expedited procedures. Such procedures may consist of the adoption of a show-cause order, a tentative order, or in appropriate cases a final order without further proceedings.

Docket Number: OST-2005-22228 and OST-2006-26419.

Date Filed: November 20, 2006.

Due Date for Answers, Conforming Applications, or Motion to Modify Scope: December 11, 2006.

Description: Application of Cargo 360, Inc. (“Cargo 360”) requesting a certificate of public convenience and necessity authorizing it to engage in scheduled foreign air transportation of property and mail between (i) a point or points in the United States via intermediate points and a point or points in the countries listed in Exhibit A, each of which has concluded an “Open Skies” Air Services Agreement with the United States, and beyond; (ii) points in any two or more of the countries listed in Exhibit B pursuant to seventh-freedom all-cargo rights granted in open skies agreements with those countries; (iii) a point or points in the United States and a point or points in the United Kingdom; and (iv) a point or points in the United States and Hong Kong. Cargo 360 additionally requests issuance of the same blanket route integration authority the Department has granted to various carriers by Order 2006-1-1.

Docket Number: OST-2006-23543.

Date Filed: November 20, 2006

Due Date for Answers, Conforming Applications, or Motion to Modify Scope: December 11, 2006.

Description: Application of Globespan Airways Limited d/b/a Flyglobespan (“Flyglobespan”) requesting an amendment to its pending application for a foreign air carrier permit, to authorize Flyglobespan to engage in scheduled foreign air transportation of persons, property and mail between any point or points in the United States and any point or points in the United Kingdom, excluding London's Heathrow and Gatwick airports, via intermediate points.

Docket Number: OST-2006-26436.

Date Filed: November 21, 2006.

Due Date for Answers, Conforming Applications, or Motion to Modify Scope: December 12, 2006.

Description: Application of Cat Aviation AG requesting a foreign air carrier permit authorizing it to conduct: (a) Charter foreign air transportation of persons, property and mail between any point or points in Switzerland and any point or points in the United States; and between any point or points in the United States and any point or points in a third country or countries, provided that such service constitutes part of a continuous operation, with or without a change of aircraft, that includes air service to Switzerland for the purpose of carrying local traffic between Switzerland and the United States; and (b) other charters between third countries and the United States.

Docket Number: OST-2005-26438.

Date Filed: November 21, 2006.

Due Date for Answers, Conforming Applications, or Motion to Modify Scope: December 12, 2006.

Description: Application of Spirit Airlines, Inc. (“Spirit”) requesting a certificate of public convenience and necessity that would authorize Spirit to engage in scheduled foreign air transportation of persons, property and mail between Fort Lauderdale, FL, on the one hand, and Caracas, Venezuela, on the other hand.

Renee V. Wright,
Program Manager, Docket Operations, Federal Register Liaison.

[FR Doc. E6-21178 Filed 12-12-06; 8:45 am]

BILLING CODE 4910-9X-P